DEPARTMENT OF HEALTH AND HUMAN SERVICES

Centers for Disease Control and Prevention

[Program Announcement 02100]

University Technical Assistance Projects in Support of the Global AIDS Program; Notice of Availability of Funds

A. Purpose

The Centers for Disease Control and Prevention (CDC) Global AIDS Program (GAP) announces the availability of fiscal year (FY) 2002 funds for a cooperative agreement program for providing technical assistance to ministries of health and other organizations working on HIV/AIDS prevention and HIV/AIDS care and treatment programs in 25 countries in Africa, the Caribbean, South America and Asia that are participating in CDC's Global AIDS Program (GAP). This program addresses the international goal and objectives contained in CDC's Five-Year HIV Prevention Strategic Plan:

Goal: Reduce HIV transmission and improving HIV/AIDS care and support in partnership with resource-constrained countries.

Objectives:

1. Decrease sexually transmitted HIV infections.

2. Develop the capacity of partners in host countries for prevention and care efforts.

3. Expanding and strengthening HIV/STD/TB surveillance programs.

4. Improve basic scientific knowledge of HIV and the safety and efficacy of newly developed biomedical interventions.

5. Decrease HIV infections transmitted from mother to child.

6. Increase access to improved HIV care and support, including prevention and treatment of opportunistic infections.

7. Decrease parenterally transmitted HIV infections.

Additional information on the strategic plan is available at: http://www.cdc.gov/hiv/pubs.htm#prevention.

Future iterations of this program announcement will reflect the results of the current process GAP is undertaking to identify priorities in accomplishing the goal and objectives of the strategic plan.

The purpose of this program is to augment and expand CDC's efforts to provide technical assistance to GAP countries in the development, implementation and evaluation of HIV prevention programs, care and treatment programs and the necessary infrastructure (e.g., laboratory services) to support prevention and care programs and services.

B. Authority and Catalog of Federal Domestic Assistance Number

This program is authorized under sections 301(a) and 317 (k)(2) of the Public Health Service Act, [42 U.S.C. section 241 (a) and 247 (k)(2)], as amended. The Catalog of Federal Domestic Assistance number is 93.943. There are no matching requirements for this program announcement.

C. Eligible Applicants

Eligible applicants include universities and colleges, based in the U.S. that have medical schools or colleges, schools of nursing, and/or schools or departments of public health; with at least one year of experience in providing technical assistance to an international public health project or a governmental or non-governmental organization working on a public health problem in a foreign country. Applications may be submitted by public and private universities in the U.S. including the District of Columbia, the Commonwealth of Puerto Rico, The Virgin Islands, the Commonwealth of the Northern Mariana Islands, American Samoa, Guam, the Federated States of Micronesia, the Republic of the Marshall Islands and the Republic of Palau.

D. Availability of Funds

Approximately $4,000,000 is available in FY 2002 to fund approximately five awards. It is expected that the average award will be $750,000, ranging from $500,000 to $1,000,000. It is expected that the awards will begin on or about September 30, 2002 and will be made for a 12-month budget period within a project period of up to five years. Funding estimates may change.

Continuation awards within an approved project period will be made in the basis of satisfactory progress as evidenced by required reports and the availability of funds.

E. Program Requirements

In conducting activities to achieve the purpose of this program, the recipient will be responsible for the activities under “1. Recipient activities” and CDC will be responsible for activities listed under “2. CDC activities.”

Activities eligible for support include providing faculty, staff and students to work in cooperation with CDC and host country governments to assist in:

1. Recipient Activities:

a. Design, conduct and evaluate training activities relevant to HIV/AIDS prevention, care and treatment and/or program infrastructure development.

These training activities should mostly be conducted within the host country, but proposals could also be made for short-term training within the United States of key country program staff in areas critical to their program responsibilities. Examples of other supportable activities include designing and assisting in implementing “train-the-trainer” programs, developing curricula and training materials in the appropriate language, providing technical assistance regarding behavioral science and science-based interventions for populations at risk, blood safety, and developing and implementing informatics systems.

b. Design, implement, and evaluate strategies to expand the scope of successful HIV prevention, care and treatment, or infrastructure development projects to have an impact on large populations and be sustained beyond the project period.

Examples of supportable activities include expanding successful pilot projects to prevent mother-to-child transmission of HIV or provide home and community-based health care into national programs, and developing national-level community empowerment models to guide local responses to HIV prevention and care.

c. Operational research with the goals of assessing HIV prevention or relevant care and treatment needs and providing findings that can be used to design and develop new or innovative program efforts or services.

d. Conduct reviews and program evaluation activities of HIV prevention or care and treatment program progress, services and achievements.

Such reviews may assess the entire country program effort or be focused on specific components.

e. Provide technical assistance in implementing HIV prevention, care and treatment programs, in infrastructure and capacity development to support such programs, and in monitoring and evaluation at program and/or national levels.

2. CDC Activities

a. Provide information to recipients regarding GAP goals, progress, country needs and other information relevant to the recipient's activities.

b. Facilitate coordination with other organizations both domestic, international and in GAP countries who are working with CDC on HIV prevention and care activities.

c. Where needed, provide consultation, training and technical support to University Staff participating to help them prepare to meet programmatic needs of GAP.

F. Content

Letter of Intent (LOI)

A LOI is required for this program. The narrative should be no more than three single-spaced pages, printed on one side with one-inch margins, and unreduced font. Your letter of intent will be used to determine eligibility and pre-application technical assistance needs, and should include a brief description of the university, its international programs and/or experience a brief summary of the proposed activities.

Application

Applicants are required to provide Measures of Effectiveness that will demonstrate the accomplishment of the various identified objectives of the cooperative agreement. Measures of Effectiveness must relate to the performance goal (or goals) as states in section “A. Purpose” of this announcement. Measures must be objective and quantitative and must measure the intended outcomes. These Measures of Effectiveness will be submitted with the application and will be an element of evaluation. Use the information in the Program Requirements, Other Requirements, and Evaluation Criteria to develop the application content. Your application will be evaluated on the criteria listed, so it is important to follow them in laying out your program plan. The narrative should be no more than 25 double-spaced pages, printed on one side, with one-inch margins, and unreduced font. The narrative should consist of, at a minimum, a Plan, Objectives, Methods and Evaluation Plan and Budget.

Eligible universities may submit proposals that involve projects related to HIV prevention, care and treatment and/or program infrastructure development. Universities should describe international experience relevant to the proposed HIV/AIDS-related activities, history of collaboration with host governments or other in-country organizations on such activities and what capabilities and resources they can marshal to work with and augment the efforts of CDC. As monitoring and evaluation (M&E) is integral to all GAP activities, universities should include in their proposals their specific experience with M&E activities (including M&E at project and/or national levels; use of quantitative and/or qualitative methods; utilization of M&E data). Proposals may indicate countries for which activities may be targeted or needed, but CDC may request the University to work with it on projects in other countries with greater or more relevant needs.

G. Submission and Deadline

Letter of Intent (LOI)

On or before July 8, 2002, submit the LOI to the Grants Management Specialist identified in the “Where to Obtain Additional Information.” Section of this announcement.

Application

Submit the original and two copies of PHS 5161-1 (OMB Number 0920-0428). Forms are available in the application kit and at the following Internet address: www.cdc.gov/od/pgo/forminfo.htm.

On or before 5 p.m. Eastern Time, July 30, 2002, submit the application to:

Technical Information Management, PA #02100, Procurement and Grants Office, Centers for Disease Control and Prevention (CDC), 2920 Brandywine Road, Room 3000, Atlanta, GA 30341-4146.

Deadline: Letters of Intent and applications will be considered as meeting the deadline if they are received on or before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications that do not meet the above criteria will not be eligible for competition and will be discarded.

H. Evaluation Criteria

Letter of Intent (LOI)

The letter of intent will be reviewed only to ensure that the applicant is an eligible university that has a medical school or college, school of nursing, and/or school or department of public health and to determine needs for pre-application technical assistance.

Application

Each application will be evaluated individually against the following criteria by an independent review group appointed by CDC. The criteria below will be applied in reviewing and evaluating your proposal. For example, if you propose to provide support to design and assist in the implementation of a voluntary HIV prevention counseling and testing program (VCT), your proposal should specify the capabilities, experience, degree that the proposed VCT program would enhance CDC efforts and be feasible, innovative and relevant to country needs.

1. The degree that the applicant university has demonstrated that it has the relevant capabilities to provide technical assistance and augment CDC's efforts to provide technical support to GAP country programs. (20 points)

2. Past experience of the university in developing or providing technical assistance and related support to HIV/AIDS or relevant public health programs. Both the applicant's relevant international and domestic experience will be considered. (20 points)

3. The degree that the proposal of the applicant university, if implemented, addresses identified priorities CDC's planned technical assistance to GAP countries, and is likely to enhance and be well coordinated with GAP's activities, and the need for geographic (Africa, Asia and South America/Caribbean regions) and programmatic (prevention, care and treatment, infrastructure development foci) balance within the GAP program. (20 points)

4. The degree that the proposed activities are feasible, innovative and relevant to country needs. (15 points)

5. Past experience of the university in developing and implementing appropriate monitoring and evaluation procedures and/or in providing technical assistance on M&E activities at program and/or national levels The applicant's relevant domestic and international experience will be considered. (15 points)

6. The extent that the applicant is willing to provide university resources (both financial and in kind) to support the project. (10 points)

7. The extent that the budget is reasonable, clearly justified, consistent with the intended use of funds, and allowable. All budget categories should be itemized. (not scored)

8. Does the application adequately address the requirements of Title 45 CFR part 46 for the protection of human subjects? (not scored)

___Yes ___No Comments:

An application can be disapproved if research risks are sufficiently serious and protection against risks is deemed insufficient.

Applications under consideration for funding will be provided to the appropriate CDC country office and the host country Ministry of Health for additional review.

These reviews will focus on the degree to which the proposal is needed, is consistent with country priorities and the National AIDS Control Plan, and coordinated with and nonduplicative of other activities. Findings from this review will be used to make final funding decisions and as the basis of negotiations concerning the final program plan.

Pre-application Technical Assistance:

Pre-application technical assistance can be obtained through three means: (1) Applicants may call CDC at (404) 639-8016 and talk with a CDC representative to obtain background information; (2) The CDC Global AIDS Program website www.cdc.gov/nchstp/od/gap will include background information relevant to applicants and (3) for those applicants who provide an LOI, CDC will hold a pre-application technical assistance workshop and based on volume of calls and inquiries audio conference calls may be scheduled prior to the application due date. Information on the date and location of the workshop will be provided directly to each applicant who submits an LOI and posted on the CDC website.

I. Other Requirements

Technical Reporting Requirements

Provide CDC with original plus two copies of the following:

1. Annual progress report.

2. Financial status report, no more than 90 days after the end of the budget period.

3. Final financial status and performance reports, no more than 90 days after the end of the project period.

4. Applicants are required to provide measures of effectiveness to evaluate the accomplishment of the various identified objectives of the cooperative agreement. These measures must be objective and quantitative and must measure the intended outcome.

The submission of these measures will be a data element to be submitted with, or incorporated into the annual progress reports.

Send all reports to the Grants Management Specialist identified in the “Where to Obtain Additional Information” section of this announcement.

The following additional requirements are applicable to this program. For a complete description of each, see attachment I of this announcement.

AR-1 Human Subjects Requirements

AR-4 HIV/AIDS Confidentiality Provisions

AR-9 Paperwork Reduction Act Requirements

AR-10 Smoke-Free Workplace Requirements

AR-12 Lobbying Restrictions

AR-14 Accounting System Requirements

J. Where To Obtain Additional Information

This and other CDC announcements can be found on the CDC home page Internet address http://www.cdc.gov Click on “Funding” then “Grants and Cooperative Agreements.”

For business management technical assistance, contact:

Dorimar Rosado, Grants Management Specialist, International & Territories Acquisition and Assistance Branch, Procurement and Grants Office, Centers for Disease Control and Prevention, 2920 Brandywine Road, Room 3000, Atlanta, GA 30341-4146, Telephone: (770) 488-2782, email address: drosado@cdc.gov.

For program technical assistance, contact: Gary R. West, Global AIDS Program, National Center for HIV, STD and TB Prevention, 1600 Clifton Road, Mailstop E-07, Atlanta, GA 30333, Telephone number: 404-639-8016, email address: GAW2@cdc.gov.

Dated: May 24, 2002.
Sandra R. Manning, CGFM,
Director, Procurement and Grants Office, Centers for Disease Control and Prevention (CDC).

[FR Doc. 02-13634 Filed 5-30-02; 8:45 am]

BILLING CODE 4163-18-P